DEPARTMENT OF THE INTERIOR

Bureau of Land Management

[LLCOS06000.L12200000.XG0000.LKSIOVHD0000]

Notice of Relocation of the Bureau of Land Management's Gunnison Field Office in Gunnison, CO

AGENCY: Bureau of Land Management, Interior.

ACTION: Notice of relocation.

SUMMARY: The Bureau of Land Management's (BLM) Gunnison Field Office moved from 216 North Colorado Street in Gunnison to a new location at 650 South 11th Street in Gunnison, Colorado 81230. The BLM officially closed the office located on Colorado Street at 12 p.m., November 24, 2010, and reopened at the new office December 6, 2010. The new telephone number is (970) 642-4940. Directions to the new office: From State Highway 50, turn east on Rio Grande Boulevard, continue approximately ½ mile, then turn left on 11th Street. The new office is located on the northeast corner of Rio Grande Boulevard and 11th Street.

FOR FURTHER INFORMATION CONTACT: Brian St. George, BLM Gunnison Field Office, (970) 642-4940.

Helen M. Hankins,
State Director.

[FR Doc. 2011-551 Filed 1-12-11; 8:45 am]

BILLING CODE 4310-BJ-P